DEPARTMENT OF JUSTICE

Notice of Lodging of Proposed Consent Decree Under the Comprehensive Environmental Response, Compensation and Liability Act

On December 29, 2020, the Department of Justice lodged a proposed Consent Decree with the United States District Court for the Eastern District of Texas in the lawsuit entitled United States et al. v. E. I. du Pont de Nemours and Company and The Chemours Company FC, LLC, Case No. 1:20-cv-00556. The proposed Consent Decree resolves the United States' claims, on behalf of the National Oceanic and Atmospheric Administration and the United States Department of the Interior, as Federal Trustees, joined by the State of Texas, on behalf of the Texas Commission on Environmental Quality, the Texas General Land Office, and the Texas Parks and Wildlife Department, as State Trustees, pursuant to Section 107(a) of the Comprehensive Environmental Response, Compensation, and Liability Act, 42 U.S.C. 9607(a), and the Texas Hazardous Substances Spill Prevention and Control Act, Texas Water Code §§ 26.261-26.267, for the recovery of damages for injury to, destruction of, loss of, and loss of use of natural resources and their services resulting from the release of hazardous substances at and from the Beaumont Works Industrial Park Complex into the West Marsh Site located in Beaumont, Texas. Plaintiffs are trustees for those natural resources. The proposed Consent Decree resolving these claims provides for Settling Defendants to implement a Restoration Project that entails recording a conservation easement on a 500-acre tract of valuable but otherwise unprotected habitat near the injured area (the “Acquisition Property”) to compensate for the natural resource damages. The Restoration Project also includes the performance of baseline biological monitoring of the Acquisition Property, annual monitoring of Acquisition Property, and legal enforcement of the Conservation Easement. The Decree also provides for payments by Settling Defendants totaling $198,853 to reimburse the Trustees' costs of assessment and for payment of the Trustees' Future Costs of overseeing the Restoration Project.

The publication of this notice opens a period for public comment on the Consent Decree. Comments should be addressed to the Assistant Attorney General, Environment and Natural Resources Division, and should refer to United States et al. v. E. I. du Pont de Nemours and Company and The Chemours Company FC, LLC, Case No. 1:20-cv-00556, D.J. Ref. No. 90-11-3-10852. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.75 (25 cents per page reproduction cost) payable to the United States Treasury.

Kenneth G. Long,
Acting Assistant Section Chief, Environmental Enforcement Section, Environment and Natural Resources Division.

[FR Doc. 2021-00689 Filed 1-13-21; 8:45 am]

BILLING CODE 4410-15-P